DEPARTMENT OF COMMERCE

Foreign-Trade Zones Board

[B-4-2019]

Foreign-Trade Zone 16—Sault Ste. Marie, Michigan; Application for Reorganization Under Alternative Site Framework

An application has been submitted to the Foreign-Trade Zones (FTZ) Board by the Sault Ste. Marie Economic Development Corporation, grantee of FTZ 16, requesting authority to reorganize the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on February 11, 2019.

FTZ 16 was approved by the FTZ Board on June 11, 1973 (Board Order 94, 38 FR 15671; June 14, 1973).

The current zone includes the following site: Site 1 (16 acres)—Sault Ste. Marie Industrial Park, Easterday Ave. & 12th St. West, Sault Ste. Marie.

The grantee's proposed service area under the ASF would be Chippewa County, Michigan, as described in the application. If approved, the grantee would be able to serve sites throughout the service area based on companies' needs for FTZ designation. The application indicates that the proposed service area is within and adjacent to the Sault Ste. Marie Customs and Border Protection port of entry.

The applicant is requesting authority to reorganize its existing zone to include its existing site as a “magnet” site. No subzones/usage-driven sites are being requested at this time.

In accordance with the FTZ Board's regulations, Elizabeth Whiteman of the FTZ Staff is designated examiner to evaluate and analyze the facts and information presented in the application and case record and to report findings and recommendations to the FTZ Board.

Public comment is invited from interested parties. Submissions shall be addressed to the FTZ Board's Executive Secretary at the address below. The closing period for their receipt is April 22, 2019. Rebuttal comments in response to material submitted during the foregoing period may be submitted during the subsequent 15-day period to May 6, 2019.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz. For further information, contact Elizabeth Whiteman at Elizabeth.Whiteman@trade.gov or (202) 482-0473.

Dated: February 11, 2019.
Andrew McGilvray,
Executive Secretary.

[FR Doc. 2019-02589 Filed 2-15-19; 8:45 am]

BILLING CODE 3510-DS-P